DEPARTMENT OF HEALTH AND HUMAN SERVICES

Agency for Toxic Substances and Disease Registry

Citizens Advisory Committee; Public Health Service Activities and Research at Department of Energy Sites

Citizens Advisory Committee on Public Health Service (PHS) Activities and Research at Department of Energy (DOE) Sites: Oak Ridge Reservation Health Effects Subcommittee (ORRHES): the meeting originally planned for February 10, 2003, has been postponed until March 3, 2003.

The items originally scheduled for discussion on February 10th will be presented and discussed when the subcommittee meets in Oak Ridge on March 3, 2003.

Contact Person for More Information: La Freta Dalton, Designated Federal Official, or Marilyn Palmer, Committee Management Specialist, Division of Health Assessment and Consultation, ATSDR, 1600 Clifton Road, NE., M/S E-54, Atlanta, Georgia 30333, telephone 1-888-42- ATSDR (28737), fax (404) 498-1744.

The Director, Management Analysis and Services Office, has been delegated the authority to sign Federal Register notices pertaining to announcements of meetings and other committee management activities, for both the Centers for Disease Control and Prevention and the Agency for Toxic Substances and Disease Registry.

Dated: February 3, 2003.
Burma Burch,
Acting Director, Management Analysis and Services Office, Centers for Disease Control and Prevention.

[FR Doc. 03-3028 Filed 2-6-03; 8:45 am]

BILLING CODE 4163-18-P